DEPARTMENT OF ENERGY

Federal Energy Regulatory Commission

[Docket No. RM98-1-000]

Regulations Governing Off-the-Record Communications; Public Notice

April 21, 2000.

This constitutes notice, in accordance with 18 CFR 385.2201(h), of the receipt of exempt and prohibited off-the-record communications.

Order No. 607 (64 FR 51222, September 22, 1999) requires Commission decisional employees, who make or receive an exempt or a prohibited off-the-record communication relevant to the merits of a contested on-the-record proceeding, to deliver a copy of the communication, if written, or a summary of the substance of any oral communication, the Secretary.

Prohibited communications will be included in a public, non-decisional file associated with, but not part of, the decisional record of the proceeding. Unless the Commission determines that the prohibited communication and any responses thereto should become part of the decisional record, the prohibited off-the-record communication will not be considered by the Commission in reaching its decision. Parties to a proceeding may seek the opportunity to respond to any facts or contentions made in a prohibited off-the-record communication, and may request that the Commission place the prohibited communication and responses thereto in the decisional record. The Commission will grant such requests only when it determines that fairness so requires.

Exempt off-the-record communications will be included in the decisional record of the proceeding, unless the communication was with a cooperating agency as described by 40 CFR 1501.6, made under 18 CFR 385.2201(e)(1)(v).

The following is a list of exempt and prohibited off-the-record communications received in the Office of the Secretary within the preceding 14 days. The documents may be viewed on the Internet at http://www.ferc.fed.us/online/rims.htm (call 202-208-2222 for assistance).

[Docket No. RM98-1-000]

Exempt

1. EL99-90-000: 3/27/00, Annie Kuether

2. CP00-40-000: 3/4/00, Lou Phemister

3. CP99-163-000: 4/12/00, David Swearingen

4. CP00-14-00: 4/11/00, John Wisniewski (FERC)

5. CP00-6-000: 2/29/00, Andreas Mager, Jr.

6. CP00-6-000: 4/8/00, Ken Huntington

7. CP00-6-000: 4/7/00, Ken Huntington

8. Project Nos. 2699, 2019, and 11563: 4/18/00, Frank Winchell

9. Project No. 11243,-016: 4/13/00, John K. Novak (FERC)

10. CP99-284—000: 4/4/00, David C. Dybala

11. CP99-284-000: 4/7/00, David C. Dybala

12. Project No. 2188-030: 4/3/00, Candace M. Gorton

13. CP00-14-000: 3/31/00, Janet Rowe

14. CP00-14-000: 4/3/00, Janet Rowe

15. CP00-14-000: 4/3/00, Lauri May

16. CP00-14-000: 4/11/00, Todd Mattson

17. CP00-6-000: 11/8/99, Thomas O. Maher, PhD.

18. CP00-6-000: 3/15/00, Thomas O. Maher, PhD.

19. Project No. 2471-005: 4/18/00, William Taft, Michigan Dept. of Natural Resources

20. Project No. 2576: 4/8/00, Peter J. Forte

21. Project No. 2661-012: 4/19/00, Douglas Hjorth

22. CP00-14-000: 4/17/00, Brian O'Higgins

23. CP00-14-000: 4/18/00, Janet Rowe

24. Project No. 2576: 3/28/00, James Gaffney

25. Project No. 2576: 3/27/00, Keech T. LeClair

26. Project No. 2576: 3/29/00, Robert W. Harris

27. Project No. 2576: 3/30/00, Barry Burbach

28. Project No. 2576: 3/30/00, AM Matula

29. Project No. 2576: 3/30/00, Christopher Provost

30. Project No. 2576: 3/30/00, kiss@bestweb.net

31. Project No. 2576: 3/30/00, KH@bestweb.net

32. Project No. 2576: 3/30/00, ktl@bestweb.net

33. Project No. 2576: 3/30/00, wwoc@bestweb.net

34. Project No. 2576: 3/30/00, wwoc@bestweb.net

35. Project No. 2676: 3/30/00, ajl@bestweb.net

36. Project No. 2576: 3/30/00, Keech T. LeClair

37. Project No. 2576: 3/30/00, cc@bestweb.net

38. Project No. 2576: 4/1/00, Paraic Sweeney

39. Project No. 2576: 3/31/00, BMcdon 1342@aol.com

40. Project No. 2576: 4/20/00, Kim Wantek

41. Project No. 2576: 4/17/00, DocOnWeelz@aol.com

42. Project No. 2576: 4/5/00, Dan Greenbaum

43. Project No. 2676: 4/5/00, M Convard

Prohibited

1. Project No. 11243: 3/16/00, Kenneth J. Gates

David P. Boergers,
Secretary.

[FR Doc. 00-10471 Filed 4-26-00; 8:45 am]

BILLING CODE 6717-01-M